DEPARTMENT OF COMMERCE

National Oceanic and Atmospheric Administration

Submission for OMB Review; Comment Request; West Coast Swordfish Fishery Cost and Earnings Survey

The Department of Commerce will submit to the Office of Management and Budget (OMB) for clearance the following proposal for collection of information under the provisions of the Paperwork Reduction Act (44 U.S.C. Chapter 35).

Agency: National Oceanic and Atmospheric Administration (NOAA).

Title: West Coast Swordfish Fishery Cost and Earnings Survey.

OMB Control Number: 0648-0751.

Form Number(s): None.

Type of Request: Regular submission (extension of an existing collection).

Number of Respondents: 17.

Average Hours per Response: 1.

Burden Hours: 17.

Needs and Uses: NOAA Fisheries periodically collects cost and earnings data from commercial fisheries participants to support analysis needed to estimate the economic impacts of regulation on fishery participants. Given the absence of mandatory cost reporting requirements, the survey will be used inform economic analyses in technical reports such as Regulatory Impact Review and Regulatory Flexibility Analysis. Survey results will assist policy makers in efforts to design and improve policy to positively affect outcomes in the commercial fishing industry, and increase public benefits. The survey will further assist NOAA Fisheries in developing a more comprehensive understanding of the economics of the U.S. commercial fishing industry.

Affected Public: Participants in the West Coast Commercial Swordfish Fishery including harvesters, spotter plane pilots, and processors.

Frequency: Once every three years.

Respondent's Obligation: Voluntary.

Legal Authority: The Magnuson-Stevens Fishery Conservation and Management Act (MSA), the National Environmental Policy Act (NEPA), the Regulatory Flexibility Act (RFA), and Executive Order 12866 (E.O. 12866).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0751.

Dated: March 23, 2020.
Sheleen Dumas,
Department PRA Clearance Officer, Office of the Chief Information Officer, Commerce Department.

[FR Doc. 2020-06304 Filed 3-25-20; 8:45 am]

BILLING CODE 3510-22-P